DEPARTMENT OF THE TREASURY

Internal Revenue Service

Proposed Information Collection; Comment Request

AGENCY: Internal Revenue Service (IRS), Treasury.

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments should be received on or before September 24, 2012 to be assured of consideration.

ADDRESSES: Direct all written comments to Yvette B. Lawrence, Internal Revenue Service, Room 6129, 1111 Constitution Avenue NW., Washington, DC 20224.

Please send separate comments for each specific information collection listed below. You must reference the information collection's title, form number, reporting or record-keeping requirement number, and OMB number (if any) in your comment.

FOR FURTHER INFORMATION CONTACT: To obtain additional information, or copies of the information collection and instructions, or copies of any comments received, contact Joel. P. Goldberger, (202) 927-9368 or at Internal Revenue Service, room 6129, 1111 Constitution Avenue NW., Washington, DC 20224, or through the Internet, at Joel.P.Goldberger@irs.gov.

SUPPLEMENTARY INFORMATION:

Request for Comments

The Department of the Treasury and the Internal Revenue Service, as part of their continuing effort to reduce paperwork and respondent burden, invite the general public and other Federal agencies to take this opportunity to comment on the proposed or continuing information collections listed below in this notice, as required by the Paperwork Reduction Act of 1995, (44 U.S.C. 3501 et seq.).

Request For Comments: Comments submitted in response to this notice will be summarized and/or included in our request for Office of Management and Budget (OMB) approval of the relevant information collection. All comments will become a matter of public record. Please do not include any confidential or inappropriate material in your comments.

We invite comments on: (a) Whether the collection of information is necessary for the proper performance of the agency's functions, including whether the information has practical utility; (b) the accuracy of the agency's estimate of the burden of the collection of information; (c) ways to enhance the quality, utility, and clarity of the information to be collected; (d) ways to minimize the burden of the collection of information on respondents, including the use of automated collection techniques or other forms of information technology; and (e) estimates of capital or start-up costs and costs of operation, maintenance, and purchase of services to provide the requested information.

Information Collections Open for Comment

Currently, the IRS is seeking comments concerning the following forms, and reporting and record-keeping requirements:

Title: Request for Discharge From Personal Liability Under Internal Revenue Code Section 2204 or 6905.

OMB Number: 1545-0432.

Form Number: Form 5495.

Abstract: Form 5495 provides guidance under sections 2204 and 6905 for executors of estates and fiduciaries of decedent's trusts. The form, filed after regular filing of an Estate, Gift, or Income tax return for a decedent, is used by the executor or fiduciary to request discharge from personal liability for any deficiency for the tax and periods shown on the form.

Current Actions: There is no change in the paperwork burden previously approved by OMB. This form is being submitted for renewal purposes only.

Type of Review: Extension of a currently approved collection.

Affected Public: Individuals or Households.

Estimated Number of Respondents: 25,000.

Estimated Time per Respondent: 12 hours 16 minutes.

Estimated Total Annual Burden Hours: 306,500.

Title: Limitations on Percentage Depletion in the Case of Oil and Gas Wells.

OMB Number: 1545-1251. Regulation Project Number: PS-5-91 (T.D. 8437).

Abstract: This regulation concerns oil and gas property held by partnerships. Because the depletion allowance with respect to production from domestic oil and gas properties is computed by the partners and not by the partnership, section 1.613A-3(e)(6)(i) of the regulation requires each partner to separately keep records of the partner's share of the adjusted basis in each oil and gas property of the partnership.

Current Actions: There is no change to this existing regulation.

Type of Review: Extension of a currently approved collection.

Affected Public: Business or other for-profit organizations.

Estimated Number of Respondents: 1,500,000.

Estimated Time per Respondent: 2 minutes.

Estimated Total Annual Burden Hours: 49,950.

Title: Changes in Methods of Accounting.

OMB Number: 1545-1541.

Regulation Project Number: Revenue Procedure 97-27, as modified by Revenue Procedure 97-30 and Revenue Procedure 2002-19.

Abstract: The information requested in Revenue Procedure 97-27 is required in order for the Commissioner to determine whether the taxpayer properly is requesting to change its method of accounting and the terms and conditions of that change.

Current Actions: There are no changes being made to the revenue procedure at this time.

Type of Review: Extension of a currently approved collection.

Affected Public: Business or other for-profit organizations, individuals, not-for-profit institutions, and farms.

Estimated Number of Respondents: 3,276.

Estimated Time per Respondent: 2 hours, 46 minutes.

Estimated Total Annual Burden Hours: 9,083.

Title: Deemed IRAs in Qualified Retirement Plans.

OMB Number: 1545-1841.

Form Number: REG-157302-02; TD 9142.

Abstract: Section 408(q), added to the Internal Revenue Code by section 602 of the Economic Growth and Tax Relief Reconciliation Act of 2001, provides that separate accounts and annuities may be added to qualified employer plans and deemed to be individual retirement accounts and individual retirement annuities if certain requirements are met. Section 1.408(q)-1(f)(2) provides that these deemed IRAs must be held in a trust or annuity contract separate from the trust or annuity contract of the qualified employer plan. This collection of information is required to ensure that the separate requirements of qualified employer plans and IRAs are met.

Current Actions: There is no change in the paperwork burden previously approved by OMB.

Type of Review: Extension of a currently approved collection.

Affected Public: Businesses or other for-profit organizations, Not-for-profit Institutions, and State, local or Tribal government.

Estimated Number of Respondents: 800.

Estimated Time per Respondent: 50 hours.

Estimated Total Annual Burden Hours: 40,000.

Title: Elections Created or Effected by the American Jobs Creation Act of 2004.

OMB Number: 1545-1986.

Notice Number: Notice 2006-47.

Abstract: The American Jobs Creation Act of 2004, Public Law 108-357, 118 Stat. 1418 (the Act), created various elections and permits taxpayers to revoke certain elections that are currently in effect in light of changes made by the Act. The collection of information is necessary to inform the Internal Revenue Service that an election is being made or revoked. This notice will enable the Internal Revenue Service to ensure that the eligibility requirements for the various elections or revocations have been satisfied; verify that the requisite computations, allocations, etc. have been made correctly; and appropriately monitor whether any required collateral actions relating to the elections or revocations have been complied with.

Current Actions: There are no changes being made to the notice at this time.

Type of Review: Extension of a currently approved collection.

Affected Public: Business or other for-profit organizations, and not-for-profit institutions.

Estimated Number of Respondents: 150,000.

Estimated Average Time per Respondent: 5 min.

Estimated Total Annual Burden Hours: 12,765.

Title: Installment Payments of Section 1446 Tax for Partnerships.

OMB Number: 1545-1991.

Form Number: Form 8804-W.

Abstract: Regulations for section 1446 require a worksheet for installment payments of section 1446 tax. Partnerships generally must make installment payments of estimated section 1446 tax if they expect the aggregate tax on the effectively connected taxable income (ECTI) that is allocable to all foreign partners to be $500 or more.

Current Actions: There is no change in the paperwork burden previously approved by OMB. This form is being submitted for renewal purposes only.

Type of Review: Extension of a currently approved collection.

Affected Public: Businesses and other for-profit organizations.

Estimated Number of Respondents: 500.

Estimated Time per Respondent: 59 hours 35 minutes.

Estimated Total Annual Burden Hours: 29,795.

Title: Section 168(k)(4) Election Procedures.

OMB Number: 1545-2133. Revenue Procedure Number: Revenue Procedure 2009-16.

Abstract: This revenue procedure provides the time and manner for (1) corporations to make the election to apply section 168(k)(4) of the Code, (2) corporations to make the allocation of the bonus depreciation amount resulting from the section 168(k)(4) election, (3) corporate partners who make the section 168(k)(4) election to notify partnerships, and (3) U.S. automobile manufacturing partnerships (such as, Chrysler) to make the election to apply section 3081(b) of the Act.

Current Actions: Extension of a previously approved collection.

Affected Public: Businesses and for-profit institutions.

Estimated Number of Respondents: 5,400.

Estimated Time per Respondent: 30 minutes.

Estimated Total Annual Burden Hours: 2,700.

Title: Qualified Plug-in Electric Vehicle Credit.

OMB Number: 1545-2137.

Form Number: Notice 2009-16.

Abstract: The Energy Improvement and Extension Act of 2008 added new § 30D of the Internal Revenue Code to authorize credit for new qualified plug-in electric drive motor vehicles. This notice provides procedures for a vehicle manufacturer to certify that a motor vehicle meets certain requirements for the credit, and to certify the amount of the credit available with respect to the motor vehicle. The notice also provides guidance to taxpayers who purchase motor vehicles regarding the conditions under which they may rely on the vehicle manufacturer's certification.

Current Actions: There is no change in the paperwork burden previously approved by OMB. This form is being submitted for renewal purposes only.

Type of Review: Extension of a currently approved collection.

Affected Public: Individual, Businesses and other for-profit organizations.

Estimated Number of Respondents: 6.

Estimated Time per Respondent: 40 hours.

Estimated Total Annual Burden Hours: 280.

Title: Identity Theft Affidavit; Declaración Jurada sobre el Robo de Identidad.

OMB Number: 1545-2139.

Form Number: Form 14039 and Form 14039-SP.

Abstract: The primary purpose of these forms is to provide a method of reporting identity theft issues to the IRS so that the IRS may document situations where individuals are or may be victims of identity theft. Additional purposes include the use in the determination of proper tax liability and to relieve taxpayer burden. The information may be disclosed only as provided by 26 U.S.C 6103.

Current Actions: There is no change in the paperwork burden previously approved by OMB. This form is being submitted for renewal purposes only.

Type of Review: Extension of a currently approved collection.

Affected Public: Individuals or Households.

Estimated Number of Respondents: 100,000.

Estimated Time per Respondent: 15 minutes.

Estimated Total Annual Burden Hours: 25,000.

The following paragraph applies to all of the collections of information covered by this notice:

An agency may not conduct or sponsor, and a person is not required to respond to, a collection of information unless the collection of information displays a valid OMB control number.

Approved: July 19, 2012.
Yvette B. Lawrence,
IRS Reports Clearance Officer.

[FR Doc. 2012-18086 Filed 7-24-12; 8:45 am]

BILLING CODE 4830-01-P